DEPARTMENT OF TRANSPORTATION

Federal Aviation Administration

14 CFR Part 93

[Docket No.: FAA-2010-0302; Amdt. No. 93-98A]

RIN 2120-AK64

New York North Shore Helicopter Route

AGENCY: Federal Aviation Administration (FAA), DOT.

ACTION: Final rule.

SUMMARY: On June 23, 2014, the FAA published a final rule to extend the requirement for an additional two years for pilots operating civil helicopters under Visual Flight Rules to use the New York North Shore Helicopter Route when operating along the north shore of Long Island, New York. The final rule extended the expiration date to August 6, 2016. However, an error in the final rule resulted in the inadvertent removal of Subpart H of part 93 of Title 14 of the Code of Federal Regulations. This final rule corrects that error and reinstates the provisions of Subpart H.

DATES: This final rule is effective February 17, 2015. Subpart H of part 93 of Title 14 of the Code of Federal Regulations expires August 6, 2016.

FOR FURTHER INFORMATION CONTACT: For technical questions concerning this action, contact David Maddox, Airspace Regulation and ATC Procedures Group, AJV-113, Federal Aviation Administration, 800 Independence Avenue SW., Washington, DC 20591; telephone (202) 267-8783; email david.maddox@faa.gov.

For legal questions concerning this action, contact Lorelei Peter, International Law, Legislation and Regulations Division, AGC-200, Office of the Chief Counsel, Federal Aviation Administration, 800 Independence Avenue SW., Washington, DC 20591; telephone (202) 267-3073; email lorelei.peter@faa.gov.

SUPPLEMENTARY INFORMATION:

Background

On July 6, 2012, the FAA published Subpart H of part 93, which contained the rules governing civil helicopter operations when flying under visual flight rules along the north shore of Long Island, New York. This was a two-year rule that expired on August 6, 2014 (77 FR 39911). On June 23, 2014, the FAA published a final rule entitled “The Extension of the Expiration Date of the New York North Shore Helicopter Route” (79 FR 35488), which was to extend the regulations addressing helicopter operations along the North Shore for an additional two years from August 6, 2014 to August 6, 2016. In that rule, the FAA stated that:

This action extends the requirement for pilots of civil helicopters to use the North Shore Helicopter Route when transiting along the north shore of Long Island for an additional two years, while the FAA considers whether to make the mandatory use of the route permanent. The current rule requiring use of the route expires on August 6, 2014. Public input to this consideration is critical and additional time is needed to conduct the rulemaking process. However, the FAA does not want to disrupt the operating environment and cause any confusion on using the route during this interim period. Therefore, the FAA finds that a two year extension of the current rule is warranted to maintain the current operating environment and permit the agency to engage in rulemaking to determine future action on this route. (See 79 FR 35489, June 23, 2014)

However, the Code of Federal Regulations was not amended correctly and Subpart H of part 93 of Title 14 of the Code of Federal Regulations was inadvertently removed.

This rule adds Subpart H back in part 93 with an expiration date of August 6, 2016, as originally intended. Adding Subpart H back into part 93 will ensure that all pilots are aware of the New York North Shore helicopter route and will make the regulations consistent with the New York Helicopter Chart. Because the amendment corrects an error and clarifies the regulations, the FAA finds that the notice and public procedures under 5 U.S.C. 553(b) are unnecessary, impracticable, and contrary to the public interest. As this final rule restores helicopter route information to the Code of Federal Regulations, thereby enhancing safety, good cause exists under 5 U.S.C. 553(d)(3) to make the rule effective in less than 30 days.

List of Subjects in 14 CFR Part 93

Air traffic control, Airspace, Navigation (air).

The Amendment

In consideration of the foregoing, the Federal Aviation Administration amends chapter I of Title 14 of the Code of Federal Regulations as follows:

PART 93—SPECIAL AIR TRAFFIC RULES

1. The authority citation for part 93 continues to read as follows:

Authority: 49 U.S.C. 106(g), 40103, 40106, 40109, 40113, 44502, 44514, 44701, 44715, 44719, 46301.

2. Add new heading for subpart H to part 93 to read as follows:

Subpart H—Mandatory Use of the New York North Shore Helicopter Route

3. Redesignate § 93.101 to subpart H.

4. Add new § 93.103 to subpart H to read as follows:

§ 93.103 Helicopter operations.

(a) Unless otherwise authorized, each person piloting a helicopter along Long Island, New York's northern shoreline between the VPLYD waypoint and Orient Point, shall utilize the North Shore Helicopter route and altitude, as published.

(b) Pilots may deviate from the route and altitude requirements of paragraph (a) of this section when necessary for safety, weather conditions or transitioning to or from a destination or point of landing.

Issued under authority provided by 49 U.S.C. 106(f), 44701(a), and 44703, in Washington, DC on February 6, 2015.
Michael P. Huerta,
Administrator.

[FR Doc. 2015-03066 Filed 2-13-15; 8:45 am]

BILLING CODE 4910-13-P